DEPARTMENT OF AGRICULTURE

Forest Service

Nez Perce-Clearwater National Forest; Idaho; Forest Plan Revision for the Nez Perce-Clearwater National Forests

AGENCY: Forest Service, USDA.

ACTION: Notice of intent to prepare an environmental impact statement.

SUMMARY: As directed by the National Forest Management Act, the USDA Forest Service is preparing the Nez Perce-Clearwater National Forests' revised land management plan (forest plan), which requires preparation of an environmental impact statement (EIS). This notice briefly describes the nature of the decision to be made, the proposed action, and information concerning public participation. It also provides estimated dates for filing the EIS, the name and address of the responsible agency official, and the individuals who can provide additional information. Finally, this notice identifies the applicable planning rule that will be used for completing this plan revision. The revised forest plan will supersede the existing forest plans that were approved by the Regional Forester in 1987. The existing forest plans will remain in effect until the revised forest plan takes effect.

As a result of this notice we are asking for comments on the proposed action and the list of potential species of conservation concern. The full text of the proposed action, large-scale color maps, information on public meetings, and the list of potential species of conservation concern can be found at http://www.fs.usda.gov/detail/nezperceclearwater/landmanagement/planning/?cid=stelprdb5447338. Information gathered during this scoping period, as well as other information, will be used to prepare the draft plan and the draft EIS.

DATES: Comments concerning the proposed action provided in this notice will be most useful in the development of the draft revised forest plan and EIS if received by September 15, 2014. The agency expects to release a draft revised forest plan and draft EIS for formal comment by June, 2015 and a final EIS and draft record of decision by June, 2016.

ADDRESSES: Comments may be sent via email to fpr_npclw@fs.fed.us, or via facsimile to 208-935-4275. Send or deliver written comments to Nez Perce-Clearwater National Forest Supervisor's Office, Attn: Forest Plan Revision, 903 3rd Street, Kamiah, ID 83536.

FOR FURTHER INFORMATION CONTACT: Timory Peel, Forest Planner, Nez Perce-Clearwater National Forests, 903 3rd Street, Kamiah, ID 83536, 208-983-2513 or at fpr_npclw@fs.fed.us. Information regarding this revision is also available on the Forest's Web site at: http://www.fs.usda.gov/detail/nezperceclearwater/landmanagement/planning/?cid=stelprdb5447338.

Individuals who use telecommunication devices for the deaf (TDD) may call the Federal Information Relay Service (FIRS) at 1-800-877-8339 between 8 a.m. and 8 p.m., Eastern Time, Monday through Friday.

SUPPLEMENTARY INFORMATION:

Responsible Official

The responsible official who will approve the Record of Decision is Rick Brazell, Forest Supervisor for the Nez Perce-Clearwater National Forests, 903 3rd Street, Kamiah, ID 83536.

Nature of Decision To Be Made

The Nez Perce-Clearwater National Forests (Forest) are preparing an EIS to revise the existing forest plans. The EIS process is meant to inform the Forest Supervisor so he can decide which alternative best maintains and restores National Forest System terrestrial and aquatic resources while providing ecosystem services and multiple uses, as required by the National Forest Management Act and the Multiple Use Sustained Yield Act. The revised forest plan will describe the strategic intent of managing the Forest for the next 10 to 15 years and will address the identified need to change the existing land management plans. The revised forest plan will provide management direction in the form of desired conditions, objectives, standards, guidelines, and suitability of lands. It will identify delineation of new management areas across the Forest, identify the timber sale program quantity, make recommendations to Congress for Wilderness designation, and list rivers and streams eligible for inclusion in the National Wild and Scenic Rivers System. The revised forest plan will also provide a description of the plan area's distinctive roles and contributions within the broader landscape, identify watersheds that are a priority for maintenance or restoration, include a monitoring program, and contain information reflecting expected possible actions over the life of the plan.

It is also important to identify the types of decisions that will not be made within the revised forest plan. The revised forest plan will represent decisions that are strategic in nature, but will not make site-specific project decisions and will not dictate day-to-day administrative activities needed to carry on the Forest Service's internal operations. The revised forest plan will provide broad, strategic guidance designed to supplement, not replace, overarching laws and regulations. Though strategic guidance will be provided, no decisions will be made regarding the management of individual roads or trails, such as those might be associated with a Travel Management plan under 36 CFR Part 212. Some issues (e.g., hunting regulations), although important, are beyond the authority or control of the National Forest System and will not be considered. No decision regarding oil and gas leasing availability will be made, though standards will be brought forward or developed that would serve as mitigations should an availability decision be necessary in the future.

Purpose and Need for Action

In February 2013, a 5-year effort to consolidate leadership and programs across the Nez Perce and Clearwater National Forests culminated in a decision to combine the forests as a single administrative unit called the Nez Perce-Clearwater National Forests. Monitoring and evaluation of implementation of the two existing plans, the 2014 Nez Perce-Clearwater National Forests Assessment (2014 Assessment), and input from collaborative public outreach has identified new information that supports the preliminary need to revise the 27-year old forest plans.

Proposed Action

The proposed action is to revise the forest under the provisions of the 2012 planning regulations to provide the Forest consistent, adaptable management guidance in consideration of best available scientific information. This includes updating direction from the Inland Native Fish Strategy (INFISH) and PACFISH strategies with forest-specific aquatic conservation strategies, updating the Forest's lynx analysis unit boundaries per the 2007 Northern Rockies Lynx Management Direction and 2013 Lynx Conservation Strategy and Assessment information, and incorporating direction established in the Idaho Roadless Rule.

The proposed action is a detailed document that includes preliminary identification of forestwide and management area desired conditions, objectives, standards, guidelines, and the suitability of lands for specific multiple uses, including those lands suitable for timber production. The proposed action includes preliminary identification of the long-term sustained yield and planned sale quantity for the Forest. It includes a description of the plan area's distinctive roles and contributions within the broader landscape, and the preliminary identification of priority restoration watersheds and proposed and possible actions that may occur on the plan area over the life of the plan. The proposed action also identifies the need for development of additional required plan content such as the monitoring program. And because of high level of interest and diverse public views, the proposed action includes two preliminary options for areas to be recommended to Congress for inclusion in the Wilderness Preservation System. Comments regarding these two recommended wilderness options, as well as other significant issues raised during scoping of the proposed action, will be used to develop draft plan alternatives for analysis in the EIS.

Public Involvement

In the fall of 2012, the Forest co-hosted five community meetings with the County Commissioners in Orofino, Grangeville, Moscow, and Lewiston, ID, and Lolo, MT. These meetings were designed to inform the public of the Forest's efforts to initiate plan revision, gain input to the assessment, and begin the collaborative public process to develop a revised forest plan. Following the initial meetings, the Forests again partnered with the County Commissioners to host a 3-day Forest Plan Summit in Orofino, ID. The summit, designed and facilitated by the University of Idaho, provided a workshop environment to design and initiate the forest plan revision collaborative process. Subsequently, from November 2012 through May 2014, 11 full-day collaborative workshops were held to develop and refine the assessment while soliciting input on draft plan components across various resource areas. Five additional check-in meetings were held in February 2013 to provide the communities of Orofino, Grangeville, Moscow, and Lewiston, ID, and Lolo, MT an update on the revision process.

The plan revision collaborative process was designed to gather input from a broad range of interested participants including those who live in the small, remote communities “imbedded” within the Forest, as well as those interested participants residing in larger local, regional, and national communities and cities. The full-day, Forest Service staff facilitated workshops allowed resource working groups, comprised of locally based participants and regionally-based conference participants from the Missoula, MT and Boise, ID areas, to share local knowledge and information considering multiple interests and values. In addition, the Forest posted all documentation to the Web and provided e-collaboration tools such as an online mapping tool and a comment inbox to solicit information to share with all interested participants, including those not able or interested in participating in the full-day-workshops. Online discussion groups hosted on the Google Groups platform allowed participants to blog with each other regarding revision topics.

Youth engagement was initiated in January of 2014 through an agreement with the University of Idaho as a graduate student started outreaching to local school classrooms, community youth groups, and camp programs. The University hosts a youth-targeted social media site giving interested youth an opportunity to blog about their personal interests related to management of the Nez Perce-Clearwater National Forests.

Tribal outreach has been initiated through cooperative agreements for a Nez Perce Tribal liaison to participate in the collaborative workshops, to present preliminary Tribal concerns and desired conditions at the May 10, 2014 workshop, and to co-facilitate a Tribal technical staff and Forest Service resource staff interdisciplinary meeting. An invitation to initiate formal government to government tribal consultation was sent in early July of 2014.

An initial draft assessment was released to the public in September 2013 with an updated version released in June of 2014. Any comments related to the 2014 Assessment received following the publication of this Notice may be considered in describing the affected environment portion of the environmental impact statement.

Applicable Planning Rule

Preparation of the revised forest plan for the Nez Perce-Clearwater National Forests began with the publication of a Notice of Initiation in the Federal Register on July 11, 2013 [78 FR 41782] and was initiated under the planning procedures contained in the 2012 Forest Service planning rule (36 CFR 219 (2012)).

Permits or Licenses Required To Implement the Proposed Action

No permits or licenses are needed for the development or revision of a forest plan.

Scoping Process

This notice of intent initiates the scoping process, which guides the development of the environmental impact statement. Written comments received in response to this notice will be analyzed to further develop the revised forest plan and identify potential significant issues. Significant issues will, in turn, form the basis for developing alternatives to the proposed action. Community meetings are scheduled for the local communities of Orofino, ID (July 22), Grangeville, ID (July 24), Lewiston, ID (July 28), Moscow, ID (July 30), and Lolo, MT (August 4). Please see the Forest Web site for meeting times and specific locations (http://www.fs.usda.gov/detail/nezperceclearwater/landmanagement/planning/?cid=stelprdb5447338).

It is important that reviewers provide their comments at such times and in such a manner that they are useful to the agency's preparation of the environmental impact statement. Therefore, comments on the proposed action will be most valuable if received within 60 days of the publication of this notice, and should clearly articulate the reviewer's opinions and concerns.

Comments received in response to this notice, including the names and addresses of those who comment, will be part of the public record. Comments submitted anonymously will be accepted and considered, however, see the following description concerning the requirements for eligibility to file an objection.

Refer to the Forest's Web site (http://www.fs.usda.gov/detail/nezperceclearwater/landmanagement/planning/?cid=stelprdb5447338) for information on when public meetings will be scheduled for refining the proposed action and identifying possible alternatives to the proposed action.

Decision Will Be Subject to Objection

The decision to approve the revised forest plan for the Nez Perce-Clearwater National Forests will be subject to the objection process identified in 36 CFR Part 219 Subpart B (219.50 to 219.62). According to 36 CFR 219.53(a), those who may file an objection are individuals and entities who have submitted substantive formal comments related to plan revision during the opportunities provided for public comment during the planning process.

Documents Available for Review

The full proposed action text, describing preliminary desired conditions, objectives, standards, guidelines, and other plan content, the 2014 Assessment, summaries of the public meetings and public meeting materials, and public comments are posted on the Forest's Web site at: http://www.fs.usda.gov/detail/nezperceclearwater/landmanagement/planning/?cid=stelprdb5447338. As necessary or appropriate, the material available on this site will be further adjusted as part of the planning process using the provisions of the 2012 planning rule.

Dated: July 7, 2014.
Rick Brazell,
Forest Supervisor, Nez Perce-Clearwater National Forests.

[FR Doc. 2014-16534 Filed 7-14-14; 8:45 am]

BILLING CODE 3411-15-P